DEPARTMENT OF DEFENSE

Department of the Air Force

Proposed Collection; Comment Request

AGENCY: Department of the Air Force, DoD.

ACTION: Notice.

In compliance with Section 3506(c)(2)(A) of the Paperwork Reduction Act of 1995, the Department of the Air Force announces the proposed reinstatement of the Accident Report form and seeks public comment on provisions thereof. Comments are invited on: (a) Whether the proposed collection of information is necessary for the proper performance of the functions of the agency, including whether the information shall have practical utility; (b) the accuracy of the agency's estimate of the burden of the proposed information collection; (c) ways to enhance the quality, unity, and clarity of the information to be collected; (d) ways to minimize the burden of the information collection on respondents, including through the use of automated collection techniques or other forms of information technology.

DATES: Consideration will be given to all comments received by December 26, 2001.

ADDRESSES: Written comments and recommendations on the proposed information collection should be sent to HQ Air Force Security Forces Center, SMSgt Walter P. Filipiak, 1720 Patrick Street, Suite 18, Lackland AFB, TX 78236.

FOR FURTHER INFORMATION CONTACT: To request more information on this proposed information collection or to obtain a copy of the proposal and associated collection instruments, please write to above address.

Title, Associated Form, and OMB Number: Air Force Form 1315, “Accident Report,” OMB Number 0701-0133.

Needs and Uses: The information collection requirement is necessary in order to thoroughly process major motor vehicle accidents. These accidents are those where there are fatalities, injuries, there is disabling damage to a vehicle, the vehicle accident is hard to explain or the amount of damage is in excess of $10,000. Once the investigation is completed, the report is filed with the local Security Forces Reports and Analysis Section. Copies of the completed investigations/reports are available upon request to the personnel involved in the accident, which can then be used by their insurance companies. This information collection which is made for these vehicle accidents is in compliance with 10 U.S.C. 8013; 44 U.S.C. 3101; and E.O. 9397.

Affected Public: Individuals and households.

Annual Burden Hours: 5,000.

Number of Respondents: 20,000.

Responses per Respondent: Depends on the amount of times an individual is involved in a major motor vehicle accident. There will be one form completed per accident.

Average Burden per Response: 15 Minutes.

Frequency: Once per major accident.

SUPPLEMENTARY INFORMATION:

Summary of Information Collection

The Air Force Form 1315, Accident Report, is used solely by security forces patrol personnel who are dispatched to investigate major motor vehicle accidents. The accident report allows the patrol person to collect all vital/detailed information on a vehicle accident. The individual investigating the accident completes and signs the form upon completion of the investigation of the accident. The completed form, along with all attachments pertaining to the accident, is then forwarded to the Security Forces Reports and Analysis Section for filing and further disposition. The completed form provides the required information for the vehicle accident to be thoroughly investigated/processed. Copies of the completed investigations/reports are available upon request to the personnel involved in the accident, which can then be used by their insurance company.

Janet A. Long,
Air Force Federal Register Liaison Officer.

[FR Doc. 01-26979 Filed 10-25-01; 8:45 am]

BILLING CODE 5001-05-U